AGENCY FOR INTERNATIONAL DEVELOPMENT

Notice of Cancellation of July 9 ACVFA Meeting

AGENCY: United States Agency for International Development.

ACTION: Notice of cancellation of meeting.

SUMMARY: Pursuant to the Federal Advisory Committee Act, notice is hereby given of cancellation of the meeting of the Advisory Committee on Voluntary Foreign Aid (ACVFA) on Wednesday, July 9, 2014 in the Horizon Room of the Ronald Reagan Building at 1300 Pennsylvania Ave. NW., Washington, DC, which was published in the Federal Register on June 25, 2014, 79 FR 35995.

FOR FURTHER INFORMATION CONTACT: Jayne Thomisee, 202-712-5506.

Dated: July 3, 2014.
Jayne Thomisee,
Executive Director & Policy Advisor, U.S. Agency for International Development.

[FR Doc. 2014-16246 Filed 7-10-14; 8:45 am]

BILLING CODE P